DEPARTMENT OF TRANSPORTATION

Surface Transportation Board

[STB Finance Docket No. 34452]

Union Pacific Railroad Company—Temporary Trackage Rights Exemption—The Burlington Northern and Santa Fe Railway Company

The Burlington Northern and Santa Fe Railway Company (BNSF) has agreed to grant temporary overhead trackage rights to Union Pacific Railroad Company (UP) over BNSF's rail line between BNSF milepost 0.0 at Klamath Falls, OR, and BNSF milepost 203.0 at Keddie, CA, a distance of approximately 203 miles.

The transaction was scheduled to be consummated on January 11, 2004, and the authorization is scheduled to expire on or about March 1, 2004. The purpose of the temporary trackage rights is to facilitate maintenance work on UP lines.

As a condition to this exemption, any employees affected by the temporary trackage rights will be protected by the conditions imposed in Norfolk and Western Ry. Co.—Trackage Rights—BN, 354 I.C.C. 605 (1978), as modified in Mendocino Coast Ry., Inc.—Lease and Operate, 360 I.C.C. 653 (1980), aff'd sub nom. Railway Labor Executives' Ass'n v. United States, 675 F.2d 1248 (D.C. Cir. 1982).

This notice is filed under 49 CFR 1180.2(d)(8).¹ If it contains false or misleading information, the exemption is void ab initio. Petitions to revoke the exemption under 49 U.S.C. 10502(d) may be filed at any time. The filing of a petition to revoke will not automatically stay the transaction.

¹ UP originally filed the instant notice of exemption under 49 CFR 1180.2(d)(7), and also filed a petition for partial revocation of the trackage rights. UP amended its notice in a letter dated January 5, 2004, because the proposed transaction qualifies for the new class exemption adopted by the Board in Railroad Consolidation Procedures—Exemption for Temporary Trackage Rights, STB Ex Parte No. 282 (Sub-No. 20) (STB served May 23, 2003).

An original and 10 copies of all pleadings, referring to STB Finance Docket No. 34452, must be filed with the Surface Transportation Board, 1925 K Street NW., Washington, DC 20423-0001. In addition, a copy of each pleading must be served on William G. Barr, 1416 Dodge Street, Room 830, Omaha, NE. 68179.

Board decisions and notices are available on the Board's Web site at http://www.stb.dot.gov.

Decided: January 6, 2004.
By the Board, David M. Konschnik, Director, Office of Proceedings.
Vernon A. Williams,
Secretary.

[FR Doc. 04-686 Filed 1-12-04; 8:45 am]

BILLING CODE 4915-00-P